FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201398.

Agreement Name: Siem Car Carriers AS/Schuyler Line Navigation Company Space Charter Agreement.

Parties: Schuyler Line Navigation Company, LLC; Siem Car Carriers AS.

Filing Party: Ashley Craig, Venable LLP.

Synopsis: The Agreement authorizes the parties to charter space to each other on an ad hoc basis in all U.S. trades.

Proposed Effective Date: 2/20/2023.

Location: https://www2.fmc.gov/FMC.Agreements.Web/Public/AgreementHistory/74502.

Dated: January 13, 2023.
JoAnne O'Bryant,
Program Analyst.

[FR Doc. 2023-00963 Filed 1-18-23; 8:45 am]

BILLING CODE 6730-02-P